DEPARTMENT OF TRANSPORTATION

Federal Aviation Administration

14 CFR Part 39

[Docket No. FAA-2009-0367; Directorate Identifier 2009-NE-10-AD; Amendment 39-16023; AD 2009-19-07]

RIN 2120-AA64

Airworthiness Directives; Teledyne Continental Motors O-470, IO-470, TSIO-470, IO-520, TSIO-520, IO-550, and IOF-550 Series Reciprocating Engines; Correction

AGENCY: Federal Aviation Administration, DOT.

ACTION: Final rule; correction.

SUMMARY: The FAA is correcting airworthiness directive (AD) 2009-19-06, which published in the Federal Register on September 22, 2009. That AD applies to Teledyne Continental Motors O-470, IO-470, TSIO-470, IO-520, TSIO-520, IO-550, and IOF-550 series reciprocating engines. The two references to the AD number are incorrect due to a software problem with the automated AD number assignment system. This document corrects those references. In all other respects, the original document remains the same.

DATES: Effective October 7, 2009.

FOR FURTHER INFORMATION CONTACT: Anthony Holton, Engineer, Propulsion, Atlanta Aircraft Certification Office, FAA, Small Airplane Directorate, 1701 Columbia Avenue, College Park, Georgia 30337; e-mail: anthony.holton@faa.gov; telephone: (404) 474-5567; fax: (404) 474-5606.

SUPPLEMENTARY INFORMATION: On September 22, 2009, we published a final rule AD, FR Doc. E9-22287, in the Federal Register (74 FR 48141). That AD applies to Teledyne Continental Motors O-470, IO-470, TSIO-470, IO-520, TSIO-520, IO-550, and IOF-550 series reciprocating engines. We need to make the following correction:

§ 39.13 [Corrected].

On page 48141, in the second column, in the third line below 14 CFR Part 39, “AD 2009-19-06” is corrected to read “AD 2009-19-07”.

On page 48142, in the third column, in the eighth line below PART 39-AIRWORTHINESS DIRECTIVES, “2009-19-06 Teledyne Continental Motors” is corrected to read “2009-19-07 Teledyne Continental Motors”.

Issued in Burlington, Massachusetts, on September 29, 2009.
Peter A. White,
Assistant Manager, Engine and Propeller Directorate, Aircraft Certification Service.

[FR Doc. E9-24088 Filed 10-6-09; 8:45 am]

BILLING CODE 4910-13-P